DEPARTMENT OF LABOR

Office of the Secretary

Submission for OMB Review: Comment Request

May 31, 2007.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling Ira Mills on 202-693-4122 (this is not a toll-free number) or e-mail: Mills.Ira@dol.gov, or by accessing http://www.reginfo.gov/public/do/PRAMain.

Comments should be sent to Office of Information and Regulatory Affairs, Attn: OMB Desk Officer for U.S. Department of Labor/Bureau of Labor Statistic (BLS), Office of Management and Budget, Room 10235, Washington, DC 20503, 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Bureau of Labor Statistics.

Type of Review: Reinstatement with change of a previously approved collection.

Title: Veterans Supplement to the CPS.

OMB Number: 1220-0102.

Frequency: Biennially.

Affected Public: Individuals or household.

Type of Response: Reporting.

Number of Respondents: 12,000.

Number of Annual Responses: 12,000.

Estimated Time per Response: 2 minutes.

Total Burden Hours: 400.

Total Annualized Capital/Startup Costs: 0.

Total Annual Costs: 0 (operating/maintaining systems or purchasing services).

Description: The purpose of this request for review is for the Bureau of Labor Statistics (BLS) to obtain clearance for the Veterans Supplement to the Current Population Survey (CPS), scheduled to be conducted in August 2007. The proposed supplement questions concerning veterans are shown in Attachment A. As part of the CPS, the supplement will survey individuals ages 17 and over from a nationally representative sample of approximately 60,000 U.S. households. The Veterans supplement is co-sponsored by the U.S. Department of Veterans Affairs (VA) and the U.S. Department of Labor's Veterans Employment and Training Service (VETS).

The August 2007 Veterans supplement will provide information on the labor force status of veterans with service-connected disabilities, combat veterans, National Guard and Reserve veterans, and recently discharged veterans. The supplement will also provide data on veterans' participation in various employment and training programs.

These data also will be used by the Veterans Employment and Training Service (VETS) and the Department of Veterans Affairs (VA) to determine policies that better meet the needs of our Nation's veteran population. Of current concern is the scope of the problems of veterans as well as the effectiveness of veterans' benefit programs in meeting their needs. The CPS demographic and labor force data provide a comprehensive picture that is invaluable in planning Federal programs and formulating policy. Legislation is regularly proposed in Congress concerning veterans; these proposals often use BLS data. Veterans service organizations, as well as academic researchers, use the data to analyze the employment status of various groups of veterans. We expect that approximately 12,000 veterans will participate in the survey.

Ira L. Mills,
Departmental Clearance Officer/Team Leader.

[FR Doc. E7-10789 Filed 6-5-07; 8:45 am]

BILLING CODE 4510-24-P